DEPARTMENT OF ENERGY

Federal Energy Regulatory Commission

Combined Notice of Filings #1

Take notice that the Commission received the following electric rate filings:

Docket Numbers: ER15-1308-005; ER10-2334-005; ER10-2897-007; ER11-2765-003; ER11-3406-005; ER11-3407-005; ER12-1739-003; ER12-1865-006; ER12-1923-004; ER12-1924-004 ER12-1925-004; ER12-2310-006; ER18-140-004.

Applicants: Bethel Wind Energy LLC, Kingfisher Wind, LLC, Elk Wind Energy LLC, Zephyr Wind, LLC, Lackawanna Energy Center LLC, Big Savage, LLC, Big Sky Wind, LLC, EverPower Commercial Services LLC, Highland North LLC, Howard Wind LLC, Krayn Wind LLC, Mustang Hills, LLC, Patton Wind Farm, LLC.

Description: Notice of Non-Material Change in Status of the BlackRock MBR Affiliates and New BlackRock Affiliates.

Filed Date: 3/16/18.

Accession Number: 20180316-5232.

Comments Due: 5 p.m. ET 4/6/18.

Docket Numbers: ER17-156-004.

Applicants: Midcontinent Independent System Operator, Inc.

Description: Compliance filing: 2018-03-19_Additional Compliance for Queue Reform Attachment X to be effective 1/4/2017.

Filed Date: 3/19/18.

Accession Number: 20180319-5117.

Comments Due: 5 p.m. ET 4/9/18.

Docket Numbers: ER17-827-001.

Applicants: Midcontinent Independent System Operator, Inc., Entergy Services, Inc.

Description: Compliance filing: 2018-03-14_Entergy Operating Companies Attachment O Errata Filing to be effective 6/1/2015.

Filed Date: 3/14/18.

Accession Number: 20180314-5198.

Comments Due: 5 p.m. ET 4/4/18.

Docket Numbers: ER17-827-003.

Applicants: Midcontinent Independent System Operator, Inc., Entergy Services, Inc.

Description: Compliance filing: 2018-03-19_Filing to implement Entergy settlement in ER17-2579; ER15-1436; et al to be effective 6/1/2015.

Filed Date: 3/19/18.

Accession Number: 20180319-5120.

Comments Due: 5 p.m. ET 4/9/18.

Docket Numbers: ER18-581-001.

Applicants: Public Service Company of New Mexico.

Description: Tariff Amendment: Response to Deficiency Letters to be effective 12/18/2017.

Filed Date: 3/16/18.

Accession Number: 20180316-5184.

Comments Due: 5 p.m. ET 4/6/18.

Docket Numbers: ER18-582-001.

Applicants: Public Service Company of New Mexico.

Description: Tariff Amendment: Response to Deficiency Letters to be effective 12/18/2017.

Filed Date: 3/16/18.

Accession Number: 20180316-5186.

Comments Due: 5 p.m. ET 4/6/18.

Docket Numbers: ER18-583-001.

Applicants: Public Service Company of New Mexico.

Description: Tariff Amendment: Response to Deficiency Letters to be effective 12/18/2017.

Filed Date: 3/16/18.

Accession Number: 20180316-5190.

Comments Due: 5 p.m. ET 4/6/18.

Docket Numbers: ER18-584-001.

Applicants: Public Service Company of New Mexico.

Description: Tariff Amendment: Response to Deficiency Letters to be effective 12/20/2017.

Filed Date: 3/16/18.

Accession Number: 20180316-5192.

Comments Due: 5 p.m. ET 4/6/18.

Docket Numbers: ER18-585-001.

Applicants: Public Service Company of New Mexico.

Description: Tariff Amendment: Response to Deficiency Letters to be effective 12/20/2017.

Filed Date: 3/16/18.

Accession Number: 20180316-5198.

Comments Due: 5 p.m. ET 4/6/18.

Docket Numbers: ER18-832-001.

Applicants: Public Service Company of New Mexico.

Description: Tariff Amendment: Response to Deficiency Letters to be effective 1/29/2018.

Filed Date: 3/16/18.

Accession Number: 20180316-5201.

Comments Due: 5 p.m. ET 4/6/18.

Docket Numbers: ER18-907-001.

Applicants: Public Service Company of New Mexico.

Description: Tariff Amendment: Response to Deficiency Letters to be effective 2/9/2018.

Filed Date: 3/16/18.

Accession Number: 20180316-5202.

Comments Due: 5 p.m. ET 4/6/18.

Docket Numbers: ER18-1128-001.

Applicants: Portland General Electric Company.

Description: Tariff Amendment: Amended NTTG Funding Agreement—Amendment Filing to be effective 5/15/2018.

Filed Date: 3/16/18.

Accession Number: 20180316-5174.

Comments Due: 5 p.m. ET 4/6/18.

Docket Numbers: ER18-1139-000.

Applicants: Northern Indiana Public Service Company.

Description: § 205(d) Rate Filing: Revisions to MBR Tariff to be effective 2/16/2018.

Filed Date: 3/19/18.

Accession Number: 20180319-5071.

Comments Due: 5 p.m. ET 4/9/18.

Docket Numbers: ER18-1140-000.

Applicants: NorthWestern Corporation.

Description: § 205(d) Rate Filing: SA 305 10th Rev—NITSA with Stillwater Mining Company to be effective 5/19/2018.

Filed Date: 3/19/18.

Accession Number: 20180319-5157.

Comments Due: 5 p.m. ET 4/9/18.

Docket Numbers: ER18-1141-000.

Applicants: Greenidge Generation LLC.

Description: § 205(d) Rate Filing: Notice of Material Change to be effective 1/10/2018.

Filed Date: 3/19/18.

Accession Number: 20180319-5167.

Comments Due: 5 p.m. ET 4/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 19, 2018.
Nathaniel J. Davis, Sr.,
Deputy Secretary.

[FR Doc. 2018-05954 Filed 3-22-18; 8:45 am]

BILLING CODE 6717-01-P